DEPARTMENT OF ENERGY

Office of Science; Fusion Energy Sciences Advisory Committee

AGENCY: Department of Energy.

ACTION: Notice of open meeting

SUMMARY: This notice announces a meeting of the Fusion Energy Sciences Advisory Committee. The Federal Advisory Committee Act (Public Law 92-463, 86 Stat. 770) requires that public notice of these meetings be announced in the Federal Register.

DATES: Monday, November 25, 2002, 9 a.m. to 6 p.m.; Tuesday, November 26, 2002, 9 a.m. to 12 noon.

ADDRESSES: The Marriott Gaithersburg Washingtonian Center, 9751 Washingtonian Boulevard, Gaithersburg, Maryland 20878, USA.

FOR FURTHER INFORMATION CONTACT: Albert L. Opdenaker, Office of Fusion Energy Sciences; U.S. Department of Energy;1000 Independence Avenue, SW.; Washington, DC 20585-1290; Telephone: 301-903-4927.

SUPPLEMENTARY INFORMATION: Purpose of the Meeting: The major purpose of this meeting is to finalize the Fusion Energy Sciences Advisory Committee recommendations on a plan for putting fusion-generated electricity on the commercial utility grid in 35 years.

Tentative Agenda

Monday, November 25, 2002

• Office of Science Perspective

• Office of Fusion Energy Sciences Perspective

• Report from the 35-year Development Plan Panel

• Public Comments

Tuesday, November 26, 2002

• Report from the Simulation/Integrated Modeling Panel

• Report from the Non-electric Application Panel

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW., Washington, DC, between 9 a.m. and 4 p.m., Monday through Friday, except Federal holidays.

Issued at Washington, DC, on October 31, 2002.
Rachel M. Samuel,
Deputy Advisory Committee Management Officer.

[FR Doc. 02-28064 Filed 11-4-02; 8:45 am]

BILLING CODE 6450-01-P